DEPARTMENT OF AGRICULTURE

Rural Business-Cooperative Service

Notice of Request for Extension of a Currently Approved Information Collection

AGENCY: Rural Business-Cooperative Service, USDA.

ACTION: Proposed collection; Comments requested.

SUMMARY: In accordance with the Paperwork Reduction Act of 1995, this notice announces the Rural Business-Cooperative Service's (RBS) intention to request an extension for a currently approved information collection in support of the program for the Annual Survey of Farmer Cooperatives, as authorized in the Cooperative Marketing Act of 1926.

DATES: Comments on this notice must be received by August 12, 2013.

FOR FURTHER INFORMATION CONTACT: E. Eldon Eversull, Research and Education Division, RBS, U.S. Department of Agriculture, STOP 3256, 1400 Independence Avenue SW., Washington, DC 20250-3256, Telephone (202) 690-1415 or send an email message to: eldon.eversull@wdc.usda.gov.

SUPPLEMENTARY INFORMATION: Title: Annual Survey of Farmer Cooperatives.

OMB Number: 0570-0007.

Expiration Date of Approval: September 30, 2013.

Type of Request: Extension of a currently approved information collection.

Abstract: The primary objective of Rural Business-Cooperative Service (RBS) is to promote understanding, use and development of the cooperative form of business as a viable option for enhancing the income of the agricultural producers and other rural residents. RBS' direct role is providing knowledge to improve the effectiveness and performance of farmer cooperative businesses through technical assistance, research, information, and education. The annual survey of farmer cooperatives collects basic statistics on cooperative business volume, net income, members, financial status, employees, and other selected information to support RBS' objective and role. Cooperative statistics are published in various reports and used by the U.S. Department of Agriculture, cooperative management, educators and others in planning and promoting the cooperative form of business.

Estimate of Burden: Public reporting burden for this collection of information is estimated to average 1 hour or less per response.

Respondents: Farmer cooperatives.

Estimated Number of Respondents: 1,384.

Estimated Number of Responses per Respondent: 1.

Estimated Number of Responses: 1,367.

Estimated Total Annual Burden on Respondents: 1,367 Hours.

Copies of this information collection can be obtained from Jeanne Jacobs, Regulations and Paperwork Management Division, at (202) 692-0040.

Comments

Comments are invited on: (a) Whether the proposed collection of information is necessary for the proper performance of the functions of RBS, including whether the information will have practical utility; (b) the accuracy of the RBS' estimate of the burden of the proposed collection of information, including the validity of the methodology and assumptions used; (c) ways to enhance the quality, utility, and clarity of the information to be collected; and (d) ways to minimize the burden of the collection of information on those who are to respond, including through the use of appropriate automated, electronic, mechanical, or other technological collection techniques or forms of information technology. Comments may be sent to Jeanne Jacobs , Regulation and Paperwork Management Branch, Support Services Division, U.S. Department of Agriculture, Rural Development, STOP 0742, Washington, DC 20250-0742. All responses to this notice will be summarized and included in the request for OMB approval. All comments will also become a matter of public record.

Dated: May 23, 2013.
Lillian Salerno,
Acting Administrator, Rural Business-Cooperative Service.

[FR Doc. 2013-13780 Filed 6-10-13; 8:45 am]

BILLING CODE 3410-XY-P